ENVIRONMENTAL PROTECTION AGENCY

[FRL OPRM-FAD-211]

Environmental Impact Statements; Notice of Availability

Responsible Agency: Office of Federal Activities, General Information 202-993-3272 or https://www.epa.gov/nepa.

Weekly receipt of Environmental Impact Statements (EIS)

Filed February 9, 2026 10 a.m. EST Through February 13, 2026 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20260013, Final, FTA, NY, Buffalo-Amherst-Tonawanda Corridor Transit Expansion Project Combined Final Environmental Impact Statement and Record of Decision, Contact: James A. Goveia 212-668-2325.

EIS No. 20260014, Final, NRC, TN, TRISO-X Special Nuclear Material License Application for a Fuel Fabrication Facility, Contact: Jill Caverly 301-415-7674.

EIS No. 20260015, Draft, USFS, NAT, 36 CFR part 228, subpart A, Locatable Minerals, Comment Period Ends: 04/21/2026, Contact: Tracy Parker 202-644-5974.

Dated: February 17, 2026.
Nancy Abrams,
Deputy Director, Federal Activities Division.

[FR Doc. 2026-03403 Filed 2-19-26; 8:45 am]

BILLING CODE 6560-50-P